DEPARTMENT OF COMMERCE

International Trade Administration

[A-570-836]

Glycine From the People's Republic of China: Initiation of Changed Circumstances Review

AGENCY: Enforcement and Compliance, International Trade Administration, Department of Commerce.

SUMMARY: In response to a request for a changed circumstances review (CCR) from Salvi Chemical Industries Limited (Salvi), the U.S. Department of Commerce (Commerce) is initiating a CCR of the antidumping duty (AD) order on glycine from the People's Republic of China (China).

DATES: Applicable July 17, 2024.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

On March 29, 1995 Commerce published the order in the Federal Register.¹ On December 10, 2012, Commerce published an affirmative determination of circumvention of the Order, finding that glycine processed in India by Salvi and AICO Laboratories India Ltd. (AICO), using Chinese-origin inputs (e.g., crude or technical-grade glycine), and exported to the United States from India is circumventing the Order on glycine from China.² Commerce determined that the processing of Chinese-origin technical grade or crude glycine, including but not limited to AAA-97TE, ACAA97TE, sodium glycinate and glycine slurry, does not substantially transform it into glycine of Indian origin and therefore such glycine remains Chinese in origin and therefore within the scope of the Order.³ In its Final Circumvention Determination, Commerce instituted a countrywide certification mechanism for all imports of glycine from India, to ensure that subject merchandise does not enter the United States as glycine from India.⁴ Commerce adopted the certification requirement to ensure that merchandise meeting the Final Circumvention Determination is properly identified as merchandise subject to the Order.⁵ Commerce applied this certification to all imports of glycine from India, with the exception of AICO and Salvi, because Commerce determined that glycine produced by AICO and Salvi was circumventing the Order, and therefore subject to the suspension of liquidation of entries and cash deposits of estimated antidumping duties at the rates established under the Order on glycine from China.⁶

¹ See Antidumping Duty Order: Glycine from the People's Republic of China, 60 FR 16116 (March 29, 1995) (Order).

² See Glycine from the People's Republic of China: Final Partial Affirmative Determination of Circumvention of the Antidumping Duty Order, 77 FR 73426 (December 10, 2012) (Final Circumvention Determination).

³ Id. 77 FR at 73427.

⁴ Id.

⁵ Id.

⁶ Id.

On April 10, 2024, Salvi requested that Commerce conduct a CCR pertaining to the Final Circumvention Determination pursuant to Section 751(b) of the Tariff Act of 1930, as amended, (the Act), and 19 CFR 351.216(b) to find that glycine imports to United States from India are fully manufactured in India.⁷ In its submission, Salvi asserts that Commerce should allow Salvi to participate in the certification process, should determine that glycine produced by Salvi is not produced from Chinese-origin raw material, and should not subject Salvi's imports of glycine to cash deposit requirements under the Order on glycine from China.⁸ Salvi claims that the raw materials it used to produce glycine in recent years ⁹ are outside the scope of the Order, irrespective of country of origin.¹⁰ Moreover, Salvi claims that all of the raw materials used in its production of glycine in recent years have been procured from Indian sources.¹¹ Salvi also notes that the certification process established by Commerce and the requirement that Indian-produced glycine not include any Chinese origin materials was established prior to the issuance of an order against glycine from India.¹² Salvi insists that a product can be subject to only a single antidumping duty order.¹³ Therefore, Salvi insists that once the order was issued on glycine from India, the circumstances pertinent to the Final Circumvention Determination changed significantly.¹⁴

⁷ See Salvi's Letter, “Request for Changed Circumstances Review,” dated April 10, 2024 (Salvi's CCR Request).

⁸ Id.

⁹ In Salvi's CCR Request, Salvi provided evidence relevant to it 2021-2021 and 2022-2023 fiscal years to demonstrate that it sourced Indian-produced non-glycine inputs from suppliers in India.

¹⁰ See Salvi's CCR Request at 4-6.

¹¹ Id. at 6-8.

¹² Id. at 2.

¹³ Id.

¹⁴ Id.

Scope of the Order

The product covered by the Order is glycine, which is a free-flowing crystalline material, like salt or sugar. Glycine is produced at varying levels of purity and is used as a sweetener/taste enhancer, a buffering agent, reabsorbable amino acid, chemical intermediate, and a metal complexing agent. This Order includes glycine of all purity levels. Glycine is currently classified under subheading 2922.49.43 of the Harmonized Tariff Schedule of the United States (HTSUS).¹⁵ Although the HTSUS subheading is provided for convenience and customs purposes, the written description of the merchandise under the Order is dispositive.

¹⁵ In separate scope rulings, Commerce determined that: (a) D(-) Phenylglycine Ethyl Dane Salt is outside the scope of the Order, and (b) Chinese glycine exported from India remains the same class or kind of merchandise as the China-origin glycine imported into India. See Notice of Scope Rulings and Anticircumvention Inquiries, 62 FR 62288 (November 21, 1997); and Final Circumvention Determination, 77 FR at 73427, respectively.

Scope of the Final Circumvention Determination ¹⁶

¹⁶ See Final Circumvention Determination, 77 FR at 73427.

The product covered by Final Circumvention Determination is glycine, as described in the “Scope of the Order” section, above, which is exported from India, but processed using Chinese-origin inputs (e.g., crude or technical-grade glycine). The Final Circumvention Determination covers glycine produced by AICO, Paras, and Salvi. Salvi and Paras stated on the record of the circumvention proceeding that they also self-produce glycine from Indian-origin inputs. The focus of the circumvention proceeding was to determine whether glycine that is: (1) manufactured in China; (2) processed by AICO, Paras, or Salvi in India; and (3) then exported to the United States as Indian-origin glycine constitutes circumvention of the Order under section 781(b) of the Act.

Initiation of Changed Circumstances Review

Pursuant to section 751(b)(1) of the Act and 19 CFR 351.216(d), Commerce will conduct a CCR upon receipt of information concerning, or a request from an interested party for a review of an AD or CVD order that shows changed circumstances sufficient to warrant a review of the order.¹⁷ The information submitted by Salvi supporting its claim that Salvi produced glycine during fiscal years 2021-2022 and 2022-2023 using Indian-origin inputs exclusively, and has not exported glycine to the United States that was processed or produced using Chinese-origin subject merchandise inputs during these fiscal years, demonstrates changed circumstance sufficient to initiate a review.¹⁸

¹⁷ See 19 CFR 351.216(c).

¹⁸ See 19 CFR 351.216(d).

Commerce may issue a questionnaire requesting additional information from Salvi for this CCR regarding its purchases and imports (including purchases of glycine inputs and subject glycine), its production facilities, its glycine production, its sales and exports, its affiliations (including affiliations with glycine suppliers, importers, producers, exporters, and trading companies) and other relevant aspects of its glycine and glycine input related business operations and will publish in the Federal Register a notice of preliminary results in accordance with 19 CFR 351.221(b)(4) and (c)(3)(i). All information submitted may be subject to verification. Failure to allow full and complete verification of any information submitted may affect Commerce's consideration of that information. Commerce will set forth its preliminary factual and legal conclusions in that notice and a description of any action proposed based on those results. Pursuant to 19 CFR 221(b)(4)(ii), interested parties will have an opportunity to comment on the preliminary results. Unless extended, Commerce will issue the final results of these CCRs in accordance with the time limits in 19 CFR 351.216(e).

Notification to Interested Parties

This initiation notice is published in accordance with sections 751(b)(1) and 777(i)(1) of the Act and 19 CFR 351.216(b), and 19 CFR 351.221(c)(3).

Dated: July 10, 2024.
Scot Fullerton,
Acting Deputy Assistant Secretary for Antidumping and Countervailing Duty Operations.

[FR Doc. 2024-15683 Filed 7-16-24; 8:45 am]

BILLING CODE 3510-DS-P